DEPARTMENT OF THE INTERIOR

Bureau of Land Management

[LLNV010000.L19900000.EX0000 241A; 11-08807; MO# 4500017134; TAS: 14X1109]

Notice of Availability of the Final Environmental Impact Statement for the Genesis Project, Eureka County, NV

AGENCY: Bureau of Land Management, Interior.

ACTION: Notice of Availability.

SUMMARY: In accordance with the National Environmental Policy Act of 1969, as amended, and the Federal Land Policy and Management Act of 1976, as amended, the Bureau of Land Management (BLM), Elko District Office has prepared a Final Environmental Impact Statement (EIS) for the Newmont Mining Corporation's proposed Genesis Project and by this notice is announcing its availability.

DATES: The BLM will not issue a final decision on the proposal for a minimum of 30 days following the date the Environmental Protection Agency publishes its notice in the Federal Register.

ADDRESSES: Printed copies of the Genesis Project Final EIS are available for public inspection at the BLM Elko District Office, 3900 E. Idaho Street, Elko, Nevada during regular business hours of 7:30 a.m. to 4:30 p.m., Monday through Friday, except holidays. The Final EIS is also available on-line at: http://www.blm.gov/nv/st/en/fo/elko_field_office.html.

FOR FURTHER INFORMATION CONTACT: Kirk Laird, Project Manager, (775) 753-0200, address: 3900 E. Idaho, Elko, NV 89801, or e-mail: Kirk_Laird@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Newmont Mining Corporation's Genesis-Bluestar mining operations area is located in northeastern Nevada on the Carlin Trend, a 50-mile-long by 10-mile-wide geologic area that has produced more than 60 million ounces of gold from numerous mines over the last 30 years. The proposed action is to expand the Genesis Pit, develop the new Bluestar Ridge Pit, backfill the Beast and Bluestar pits and partially backfill the Genesis Pit to prevent development of a pit lake in the Genesis pit, expand the Section 36 and Section 5 waste rock disposal facilities, construct the necessary haul roads and access roads, and process 60 million tons of gold-bearing ore. The proposed project would disturb an additional 43 acres (25 acres of public land and 18 acres of private land) and provide for continued mining activities on approximately 1,092 acres of previously disturbed lands. The Draft EIS analyzed impacts of the proposed action and no action alternatives, and identified measures to mitigate adverse impacts. Major issues addressed in the Draft EIS include: (1) The cumulative impacts of mining and related actions on affected resources, for example water quality and quantity, in the Carlin Trend; (2) the release of mercury associated with processing the 60 million tons of ore; (3) the impacts of 12 additional years of mining as it relates to continued employment and economic activity for the local area; and (4) the impact of a pit lake forming under the no action alternative, but not in the action alternative. The NEPA analysis considered wilderness characteristics and complies with Secretarial Order 3310.

The proposed action includes an adaptive management plan which was analyzed in the Draft EIS and included as an appendix to the Draft EIS. The Draft EIS was released for public review on April 23, 2010, for a 45-day comment period. A public comment meeting was held in Elko, Nevada on May 19, 2010.

The Final EIS has been prepared in an abbreviated format, and includes comments on the Draft EIS and the BLM's responses along with minor modifications and corrections to the Draft EIS.

Authority: 40 CFR 1506.6 and 1506.10.

Kenneth E. Miller,
District Manager, Elko.

[FR Doc. 2011-9075 Filed 4-14-11; 8:45 am]

BILLING CODE 4310-HC-P